DEPARTMENT OF COMMERCE

National Oceanic and Atmospheric Administration

[I.D. 081606B]

Endangered and Threatened Species; Recovery Plans

AGENCY: National Marine Fisheries Service, National Oceanic and Atmospheric Administration, Commerce.

ACTION: Notice of Availability; request for comments.

SUMMARY: The National Marine Fisheries Service (NMFS) announces the availability for public review of the draft updated Recovery Plan (Plan) for the U.S. Distinct Population Segment (DPS) of smalltooth sawfish (Pristis pectinata). NMFS is soliciting review and comments from the public and all interested parties on the draft Plan, and will consider all substantive comments received during the review period before submitting the Plan for final approval.

DATES: Comments on the draft Plan must be received by close of business on October 23, 2006.

ADDRESSES: Send written comments to Smalltooth Sawfish Coordinator. Comments may be submitted by:

• E-mail: smalltoothsawfish.recoveryplan@noaa.gov, include in the subject line the following document identifier: Smalltooth Sawfish Recovery Plan. E-mail comments, with or without attachments, are limited to 5 megabytes;

• Smalltooth Sawfish Coordinator, NMFS, Southeast Regional Office, Protected Resources Division, 263 13th Avenue South, St. Petersburg, Florida 33071; or

• Fax: (727) 824-5309. Interested persons may obtain the Plan for review from the above address or on-line from http://www.nmfs.noaa.gov/pr/recovery/plans.htm.

FOR FURTHER INFORMATION CONTACT: Shelley Norton, (727) 824-5312, or by e-mail Shelley.Norton@noaa.gov.

SUPPLEMENTARY INFORMATION: The Endangered Species Act of 1973 (15 U.S.C. 1531 et seq.; ESA) requires that NMFS develop and implement recovery plans for the conservation and survival of threatened and endangered species under its jurisdiction, unless it is determined that such plans would not promote the conservation of the species. Section 4(f) of the ESA, as amended in 1988, requires that public notice and opportunity to review and comment be provided during recovery plan development.

The U.S. DPS of smalltooth sawfish (Pristis pectinata) was listed as endangered under the ESA on April 1, 2003 (68 FR 15680) subsequent to a 1999 listing petition from The Ocean Conservancy (formerly the Center for Marine Conservation). Smalltooth sawfish were once prevalent throughout Florida and were commonly encountered from Texas to North Carolina. Currently, smalltooth sawfish can only be found with any regularity in south Florida between the Caloosahatchee River and the Florida Keys.

The draft recovery plan for the U.S. DPS of smalltooth sawfish was prepared for NMFS by the smalltooth sawfish recovery team. The team is composed of nine members from Federal, State, non-governmental, and non-profit organizations. The goal of the recovery plan is to rebuild and assure the long-term viability of the U.S. DPS of smalltooth sawfish in the wild, allowing initially for reclassification from endangered to threatened status (downlisting) and ultimately to recovery and subsequent removal from the List of Endangered and Threatened Wildlife (delisting). NMFS will consider all substantive comments and information presented during the public comment period in the course of finalizing this Plan.

Dated: August 17, 2006.
Maria Boroja,
Acting Chief, Endangered Species Division, Office of Protected Resources, National Marine Fisheries Service.

[FR Doc. E6-13975 Filed 8-22-06; 8:45 am]

BILLING CODE 3510-22-P